FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Earley Terminations Granted
[June 1, 2012 Thru June 30, 2012]
06/01/2012
20120841 | G | ValueAct Capital Master Fund. L.P.; Willis Group Holdings Public Limited Company; ValueAct Capital Master Fund, L.P.
20120862 | G | Marquard & Bahls AG; GS Maritime Holding LLC; Marquard & Bahls AG.
06/04/2012
20120808 | G | Objet Ltd.; Stratasys, Inc.; Objet Ltd.
20120858 | G | America Movil, S.A.B. de CV.; Simple Mobile, LLC; America Movil, S.A.B. de C.V.
20120860 | G | Green Equity Investors V, L.P.; Savers, Inc.; Green Equity Investors V, L.P.
20120864 | G | The Dow Chemical Company; Dow Kokam LLC; The Dow Chemical Company.
20120865 | G | Wolverine World Wide, Inc.; Collective Brands, Inc.; Wolverine World Wide, Inc.
20120869 | G | Blum Strategic Partners IV, L.P.; Collective Brands, Inc.; Blum Strategic Partners IV, L.P.
20120870 | G | Golden Gate Capital Opportunity Fund, L.P.; Collective Brands, Inc.; Golden Gate Capital Opportunity Fund, L.P.
20120874 | G | C&J Energy Services, Inc.; Intervale Capital Fund, L.P.; C&J Energy Services, Inc.
20120875 | G | Ray Investment S.a.r.l.; Platt Electric Supply, Inc.; Ray Investment S.a.r.l.
20120876 | G | PFB Corporation; International Petroleum Investment Company; PFB Corporation.
20120877 | G | Boyd Gaming Corporation; Peninsula Gaming Partners, LLC; Boyd Gaming Corporation.
20120881 | G | Sun Capital Partners V, L.P.; Polycom, Inc.; Sun Capital Partners V, L.P.
20120882 | G | Nordson Corporation; EDI Holdings, Inc.; Nordson Corporation.
20120883 | G | Berkshire Hathaway Inc.; J. Stewart Bryan III; Berkshire Hathaway Inc.
20120885 | G | Bed Bath & Beyond Inc.; Cost Plus, Inc.; Bed Bath & Beyond Inc.
20120888 | G | Red Ventures, LLC; MasTec, Inc.; Red Ventures, LLC.
06/05/2012
20120823 | G | HealthCor Offshore, Ltd.; Allscripts Healthcare Solutions, Inc.; HealthCor Offshore, Ltd.
20120884 | G | Picasso Acquisition Holding I, Inc.; TAX L.P.; Picasso Acquisition Holding 1, Inc.
20120895 | G | Concho Resources, Inc.; Riverstone/Carlyle Global Energy and Power Fund IV, L.P.; Concho Resources, Inc.
06/06/2012
20120890 | G | Blackstone CQP Feeder Fund VI/BEP/BCQPL; Cheniere Energy, Inc.; Blackstone CQP Feeder Fund VI/BEP/BCQPL.
20120891 | G | Precision Castparts Corp.; David W. Dickson Family Trust dated October 20, 2009; Precision Castparts Corp.
06/07/2012
20120887 | G | Ultra Clean Holdings, Inc.; HLHZ AIT Holdings, L.L.C.; Ultra Clean Holdings, Inc.
06/08/2012
20120900 | G | QUALCOMM Incorporated; Summit Microelectronics, Inc.; QUALCOMM Incorporated.
20120901 | G | Graham Partners 111, L.P.; HCO Holding I Corporation; Graham Partners III, L.P.
20120925 | G | Deutsche Telekom AG; Leap Wireless International, Inc.; Deutsche Telekom AG.
20120926 | G | Leap Wireless International, Inc.; Deutsche Telekom AG; Leap Wireless International, Inc.
06/11/2012
20110971 | S | Johnson & Johnson; Synthes, Inc.; Johnson & Johnson.
20120850 | G | Abbott Laboratories; Action Pharma A/S; Abbott Laboratories.
20120889 | G | Silicon Laboratories Inc.; Ember Corporation; Silicon Laboratories Inc.
20120897 | G | UANT Ventures, L.L.P.; Urology Associates of North Texas, L.L.P.; UANT Ventures, L.L.P.
20120919 | G | Smart Balance, Inc.; Allan B. Hubbard; Smart Balance, Inc.
06/05/2012
20120886 | G | Trim IR Holdco, LLC; Ingersoll-Rand plc; Trim IR Holdco, LLC.
20120908 | G | Green Equity Investors V, L.P.; Olympus Growth Fund V, L.P.; Green Equity Investors V, L.P.
20120911 | G | Nippon Metal Industry Co., Ltd.; Nisshin Steel Co., Ltd.; Nippon Metal Industry Co., Ltd.
20120912 | G | AEA Investors Small Business Fund II LP; David J. Bishop; AEA Investors Small Business Fund II LP.
20120913 | G | Porsche Automobil Holding SE; Investindustrial IV L.P.; Porsche Automobil Holding SE.
20120915 | G | Sanford; Medcenter One Health Systems; Sanford.
20120917 | G | TCV VII, L.P.; ABS Capital Partners V, L.P.; TCV VII, L.P.
20120922 | G | Teledyne Technologies, Inc.; LeCroy Corporation; Teledyne Technologies, Inc.
20120929 | G | New Enterprise Associates 10, L.P.; Bloom Energy Corporation; New Enterprise Associates 10, L.P.
20120933 | Y | LIN TV Corp.; New Vision Television, LLC; LIN TV Corp.
20120942 | G | AG Private Equity Partners IV, L.P.; Benihana Inc.; AG Private Equity Partners IV, L.P.
06/13/2012
20120207 | G | The McGraw-Hill Companies, Inc.; S&P/Dow Jones Indices LLC; The McGraw-Hill Companies, Inc.
20120902 | G | Delphi Automotive PLC; Bain Capital Fund VIII, L.P.; Delphi Automotive PLC.
06/15/2012
20120787 | G | Suburban Propane Partners, L.P.; Inergy, L.P.; Suburban Propane Partners, L.P.
20120932 | G | Mr. Jianlin Wang; AMC Entertainment Holdings, Inc.; Mr. Jianlin Wang.
20120934 | G | Starbucks Corporation; The Julie Lepinard Alpha Trust; Starbucks Corporation.
20120936 | G | Monsanto Company; Gregg A. Sander; Monsanto Company.
20120937 | G | TPG Partners VI, L.P.; Savers, Inc. TPG Partners VI, L.P.
20120939 | G | Bain Capital Fund X, L.P.; Vestar Capital Partners III, L.P.; Bain Capital Fund X, L.P.
20120943 | G | Nordson Corporation; Industrial Growth Partners III, L.P.; Nordson Corporation.
20120944 | G | Valeant Pharmaceuticals International, Inc.; Water Street Healthcare Partners II, L.P.; Valeant Pharmaceuticals International, Inc.
20120949 | G | GS Capital Partners VI Fund L.P.; William C. Young; GS Capital Partners VI Fund L.P.
20120950 | G | DCP Midstream Partners, LP; Phillips 66; DCP Midstream Partners, LP.
20120951 | G | DCP Midstream Partners, LP; Spectra Energy Corp.; DCP Midstream Partners, LP.
20120954 | G | WellPoint, Inc.; Fenway Partners Capital Fund III, L.P.; WellPoint, Inc.
20120958 | G | Sun Capital Partners V, L.P.; GMHC, LLC; Sun Capital Partners V, L.P.
20120967 | G | Serge Godin; Logica PLC; Serge Godin.
20120968 | G | Warburg Pincus Private Equity XI, L.P.; M. Brooks Smith; Warburg Pincus Private Equity XI, L.P.
06/18/2012
20120904 | G | Oracle Corporation; Vitrue, Inc.; Oracle Corporation.
20120918 | G | NYSE Euronext; Alexander F. Brigham; NYSE Euronext.
20120930 | G | Blackstone Capital Partners V L.P.; Alex Lee, Inc.; Blackstone Capital Partners V L.P.
20120938 | G | Wells Fargo & Company; Mobilelron, Inc.; Wells Fargo & Company.
20120948 | G | Stefan Kaluzny; The Talbots, Inc.; Stefan Kaluzny.
06/19/2012
20120971 | G | Marriott International, Inc.; Gaylord Entertainment Company; Marriott International, Inc.
20120972 | G | Roark Capital Partners II, LP; KLH Capital, L.P.; Roark Capital Partners II, LP.
06/20/2012
20120940 | G | MHR Institutional Partners III LP; Navistar International Corporation; MHR Institutional Partners III LP.
20120956 | G | Berkshire Hathaway Inc.; Meyn Holding B.V.; Berkshire Hathaway Inc.
20120960 | G | Oak Hill Capital Partners III, L.P.; Sandler Capital Partners V, L.P.; Oak Hill Capital Partners III, L.P.
20120962 | G | Isabelle Holding Company Inc.; Interline Brands, Inc.; Isabelle Holding Company Inc.
06/21/2012
20120898 | G | Valline S.r.l.; EKR Holdings, Inc.; Valline S.r.l.
20120941 | G | Cameco Corporation; Advent Voltage (Cayman) Limited; Cameco Corporation.
20120985 | G | Behrman Capital PEP L.P.; Behrman Capital III L.P.; Behrman Capital PEP L.P.
06/22/2012
20120965 | G | Thomas H. Lee Equity Fund VI, L.P.; GP Capital Partners III, L.P.; Thomas H. Lee Equity Fund VI, L.P.
20120973 | G | Lipizzaner, Inc.; Ariat International, Inc.; Lipizzaner, Inc.
20120976 | G | Thomas H. Lee Equity Fund VI, L.P.; Party City Holdings Inc.; Thomas H. Lee Equity Fund VI, L.P.
20120977 | G | Flowers Foods, Inc.; Albert R. Lepage; Flowers Foods, Inc.
20120978 | G | Flowers Foods, Inc.; Andrew P. Barowsky; Flowers Foods, Inc.
20120987 | G | GENI VAR Inc.; WSP Group plc; GENIVAR Inc.
20120988 | G | Snow Phipps II, L.P.; Sentinel Capital Partners III, L.P.; Snow Phipps II, L.P.
20120991 | G | H.I.G. Bayside Debt & LBO Fund II, L.P.; Arctic Glacier Income Fund; H.I.G. Bayside Debt & LBO Fund II, L.P.
20120994 | G | Odyssey Investment Partners Fund IV, LP; Saw Mill Capital Partners, L.P.; Odyssey Investment Partners Fund IV, LP.
20120997 | G | Acosta Holdco, Inc.; Mosaic Parent Holdings, Inc.; Acosta Holdco, Inc.
06/25/2012
20120896 | G | General Cable Corporation; Rio Tinto plc; General Cable Corporation.
20120928 | G | MultiCare Health System; Allen B. Miller; MultiCare Health System.
20120959 | G | Maple Group Acquisition Corporation; TMX Group Inc.; Maple Group Acquisition Corporation.
20120966 | G | John F. Mariani, Jr.; Gary B. Heck; John F. Mariani, Jr.
20120984 | G | Harry F. Mariani; Gary B. Heck; Harry F. Mariani.
20120986 | G | HDS Investment Holding, Inc.; Roark Capital Partners II, LP; HDS Investment Holding, Inc.
20120999 | G | RoundTable Healthcare Partners III, L.P.; Deerfield Private Design Fund II, L.P.; RoundTable Healthcare Partners III, L.P.
20121003 | G | KKR 2006 Fund, L.P.; Sonos, Inc.; KKR 2006 Fund, L.P.
20121009 | G | Windjammer Senior Equity Fund III, L.P.; Riverside Capital Appreciation Fund V, L.P.; Windjammer Senior Equity Fund III, L.P.
20121010 | G | Chesapeake Energy Corporation; Sundrop Fuels, Inc.; Chesapeake Energy Corporation.
06/26/2012
20120927 | G | Pearson plc; GlobalEnglish Corporation; Pearson plc.
06/27/2012
20120995 | G | General Dynamics Corporation; Jerrold L. Miller; General Dynamics Corporation.
06/29/2012
20120974 | G | Verizon Communications Inc.; Apollo Investment Fund V, L.P.; Verizon Communications Inc.
20121000 | G | The Resolute Fund 11 Maritime Parntership, L.P.; Bollinger Shipyards, Inc.; The Resolute Fund II Maritime Parntership, L.P.
20121006 | G | Brentwood Associates Private Equity IV, L.P.; ACI Capital America Fund, L.P.; Brentwood Associates Private Equity IV, L.P.
20121008 | G | Permira IV Continuing L.P.2; Intelligrated, Inc.; Permira IV Continuing L.P.2.
20121014 | G | Holly Energy Partners, L.P.; HollyFrontier Corporation; Holly Energy Partners, L.P.
20121015 | G | Francisco Partners III. L.P.; Cross Match Technologies, Inc.; Francisco Partners III, L.P.
20121018 | G | Wesco International, Inc.; Caxton-Iseman (Conney), L.P.; Wesco International, Inc.
20121019 | G | salesforce.com, inc.; Buddy Media, Inc.; salesforce.com, inc.
20121020 | G | ORG Chemical Holdings, LLC; McFerrin Dynasty Trust; ORG Chemical Holdings, LLC.
20121023 | G | EQT VI (No.1) Limited Partnership; BSN medical Luxembourg Holding S.a.r.l.; EQT VI (No. 1) Limited Partnership.
20121025 | G | WPP plc; General Atlantic Partners 83, LP; WPP plc.
20121031 | G | Paul G. Desmarais; IntegraMed America, Inc.; Paul G. Desmarais.
20121034 | G | Calumet Specialty Products Partners, L.P.; Royal Purple, Inc.; Calumet Specialty Products Partners, L.P.
20121037 | G | J.H. Whitney VII, L.P.; Beecken Petty O'Keefe QP Fund II, L.P.; J.H. Whitney VII, L.P.

FOR FURTHER INFORMATION CONTACT:

Renee Chapman, Contact Representative

or

Theresa Kingsberry, Legal Assistant.

Federal Trade Commission, Premerger Notification Office, Bureau of Competition, Room H-303, Washington, DC 20580, (202) 326-3100.

By direction of the Commission.
Richard C. Donohue,
Acting Secretary.

[FR Doc. 2012-17464 Filed 7-19-12; 8:45 am]

BILLING CODE 6750-01-M